DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2007 Business Expenses Supplement to the Annual Wholesale and Retail Trade Surveys.

Form Number(s): SA-42A(SUP), SA-42(ESUP), SA-44(ASUP), SA-44(ESUP), SA-45(ASUP), SA-45(ESUP), SA-721A(SUP), SA-721E(SUP), SA-722A(SUP), SA-722E(SUP).

Agency Approval Number: None.

Type of Request: New collection.

Burden Hours: 76,580.

Number of Respondents: 28,363.

Average Hours per Response: 2.7 hours.

Needs and Uses: The 2007 Business Expenses Supplement (BES) will supplement basic economic statistics produced by the 2007 Economic Census of Wholesale Trade, Retail Trade, and Accommodation and Food Services Industries with estimates of detailed operating expenses. Further, it will provide measures of value produced for wholesale trade and retail trade. Essential measurement of the Nation's economy requires compilation of comprehensive and reliable data on both economic outputs (e.g., sales) and inputs (e.g., utilities and advertising expenses). This supplement is the sole source of comprehensive expenses input data for covered industries. The Census Bureau will collect the information by means of a mail canvass with electronic reporting option directed to a sample of business units that represent one or more domestic establishments in covered industries. Results will be presented primarily in electronic reports containing statistical summaries by industry for the United States.

This information collection is part of the 2007 Economic Census, which is required by law under Title 13, United States Code (U.S.C.). Section 131 of this statute directs the taking of a census of businesses, including the distributive trades, service establishments, and transportation, at 5-year intervals. Section 224 makes reporting mandatory. Section 193 authorizes surveys that collect supplementary statistics related to the main topic of the censuses. Finally, Section 195 permits the use of statistical sampling methods.

Information on business operating expenses was compiled in the 2002 Business Expenses Survey covering wholesale distributors, retail trade, accommodation and food services, and selected service industries. Data on operating expenses for selected service industries are currently compiled by the Census Bureau's Service Annual Survey.

The economic census is a primary source of facts about the structure and functioning of the Nation's economy. It provides essential information for government, industry, business, and the general public. For the 2007 Business Expenses Supplement, the Federal government is the primary user of the resulting data. In particular, the Bureau of Economic Analysis (BEA), the Federal agency that produces gross domestic product (GDP) estimates and maintains the national economic accounts. The benchmark input-output (I-O) accounts at BEA use the BES data to produce national estimates of value added, gross output, and intermediate inputs. These national estimates serve as a benchmark for the annual industry accounts, which provide the control totals for the GDP-by-state accounts. Additionally, data from the benchmark I-O and annual I-O accounts are used by the GDP-by-state accounts to remove purchased services from Census Bureau source data on manufacturing, mining, and construction because BEA's concept of value added excludes such services. Previously, BEA's GDP-by-state accounts used only the national benchmark I-O table as a source for the purchased services. BEA recently made advances in its annual I-O accounts program, enhancing the reliability of those statistics. Thus, the GDP-by-state estimates now incorporate the purchased services as measured by both the annual and benchmark I-O accounts.

The U.S. Federal Reserve Board, in turn, uses the BEA's national accounts for analyzing productivity trends and industry-level price changes. The Bureau of Labor Statistics uses the data for measurement of industry productivity. The Economic Research Service of the U.S. Department of Agriculture uses the data for analysis of national food marketing systems. Industry, business, and academia use the data for evaluating value added and profit margins occurring within the business sector.

A specific objective of this supplement is to continue implementation of recommendations made in the Gross National Product Data Improvement Project (Creamer) Report (the Advisory Committee on Gross National Product Data Improvement, 1977), prepared under the auspices of the Office of Management and Budget; recommendations made in the Boskin Report on the Quality of Economic Statistics (President's Council of Economic Advisers, 1983); the (“Mid-Decade Strategic Review of BEA's Economic Accounts” (Survey of Current Business, February 1995); and recommendations of BEA's advisory council.

Affected Public: Business or other for-profit organizations.

Frequency: One-time.

Respondent's Obligation: Mandatory.

Legal Authority: Title 13 U.S.C. Sections 131, 193, 195, and 224.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Brian Harris-Kojetin, OMB Desk Officer, either by fax (202-395-7245) or e-mail (bharrisk@omb.eop.gov).

Dated: August 2, 2007.
Gwellnar Banks,
Management Analyst, Office of the Chief Information Officer.

[FR Doc. E7-15399 Filed 8-7-07; 8:45 am]

BILLING CODE 3510-07-P